FEDERAL TRADE COMMISSION

Granting of Requests for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination—on the dates indicated—of the waiting period provided by law and the premerger notification rules. The listing for each transaction includes the transaction number and the parties to the transaction. The grants were made by the Federal Trade Commission and the Assistant Attorney General for the Antitrust Division of the Department of Justice. Neither agency intends to take any action with respect to these proposed acquisitions during the applicable waiting period.

Early Terminations Granted
November 1, 2017 Through November 30, 2017
11/01/2017
20180080 | G | General Atlantic Partners 100, L.P.; Anthony Casalena; General Atlantic Partners 100, L.P.
11/02/2017
20180103 | G | ACOF IV CWC AIV Blocked Feeder, L.P.; FWC Holdings LLC; ACOF IV CWC AIV Blocked Feeder, L.P.
11/03/2017
20171612 | S | Red Ventures Holdco, LP; Bankrate, Inc.; Red Ventures Holdco, LP.
20171955 | G | Tyson 2009 Family Trust; Nicholas J. Karamatsoukas; Tyson 2009 Family Trust.
20180041 | G | CVC Growth Partners L.P.; Actua Corporation; CVC Growth Partners L.P.
20180078 | G | Shandong Weigao Group Medical Polymer Co. Ltd.; RoundTable Healthcare Partners III, L.P.; Shandong Weigao Group Medical Polymer Co. Ltd.
20180081 | G | L. John Doerr; Essence Group Holdings Corporation; L. John Doerr.
20180089 | G | JP Morgan Chase & Co.; WePay, Inc.; JP Morgan Chase & Co.
20180121 | G | Eagle Parent Holdings, LLC; Zyme Holdings, Inc.; Eagle Parent Holdings, LLC.
20180123 | G | Mr. Aloke Lohia and Mrs. Suchitra Lohia; DowDuPont Inc.; Mr. Aloke Lohia and Mrs. Suchitra Lohia.
20180124 | G | Mr. Aloke Lohia and Mrs. Suchitra Lohia; Teijin Limited; Mr. Aloke Lohia and Mrs. Suchitra Lohia.
20180133 | G | Tailwind Capital Partners II, L.P.; HMTBP Holdings Inc.; Tailwind Capital Partners II, L.P.
20180150 | G | Solace Capital Special Situations Fund, L.P.; The Sterling Group; Solace Capital Special Situations Fund, L.P.
20180151 | G | ISQ Global Infrastructure Fund, L.P.; BP Natural Gas Opportunity Partners, LP; ISQ Global Infrastructure Fund, L.P.
20180156 | G | OHCP Silver Surfer Holdings Corp.; Dobbs Frenkel Investment Partnership; OHCP Silver Surfer Holdings Corp.
20180158 | Y | Emerson Electric Co.; APAX Europe VII-B, L.P.; Emerson Electric Co.
20180161 | G | EXC Holdings I Corp.; Excelitas Technologies Holdings LLC; EXC Holdings I Corp.
11/06/2017
20180085 | G | Siris Partners III, L.P.; Synchronoss Technologies, Inc.; Siris Partners III, L.P.
20180086 | G | Siris Partners III, L.P.; Synchronoss Technologies, Inc.; Siris Partners III, L.P.
20180095 | G | Odyssey Investment Partners Fund V, LP; Excellere Capital Fund II, LP; Odyssey Investment Partners Fund V, LP.
11/08/2017
20170926 | G | Entercom Communications Corp.; Mr. Sumner Redstone; Entercom Communications Corp.
20171663 | G | Entercom Communications Corp.; Bain Capital (CC) IX, L.P.; Entercom Communications Corp.
20171664 | G | Entercom Communications Corp.; Thomas H. Lee Equity Fund VI, L.P.; Entercom Communications Corp.
20180060 | G | Entercom Communications Corp.; Bain Capital (CC) IX, L.P.; Entercom Communications Corp.
20180061 | G | Entercom Communications Corp.; Thomas H. Lee Equity Fund VI, L.P.; Entercom Communications Corp.
20180128 | G | Mr. Stefano Pessina; Walgreens Boots Alliance, Inc.; Mr. Stefano Pessina.
20180154 | G | Alphabet Inc.; Lyft, Inc.; Alphabet Inc.
11/09/2017
20180070 | G | Friedman Fleischer & Lowe Capital Partners III, L.P.; Richard J. Kurtz; Friedman Fleischer & Lowe Capital Partners III, L.P.
20180109 | G | HomeServe plc; Dominion Energy, Inc.; HomeServe plc.
20180143 | G | DowDuPont Inc.; AgroFresh Solutions, Inc.; DowDuPont Inc.
11/13/2017
20180088 | G | Akamai Technologies, Inc.; Nominum, Inc.; Akamai Technologies, Inc.
11/14/2017
20180044 | G | Colfax Corporation; CIRCOR International, Inc.; Colfax Corporation.
20180155 | G | Audax Private Equity Fund V-A, L.P.; Wolters Kluwer N.V.; Audax Private Equity Fund V-A, L.P.
20180160 | G | New Omaha Holdings L.P.; BluePay Holdings, Inc.; New Omaha Holdings L.P.
20180165 | G | Mr. Gregory Lindberg; Resolution Life L.P.; Mr. Gregory Lindberg.
20180174 | G | M5 Midstream LLC; M5 Louisiana Gathering, LLC; M5 Midstream LLC.
20180178 | G | C&J Energy Services, Inc.; White Deer Energy L.P.; C&J Energy Services, Inc.
20180179 | G | Tailwind Capital Partners III, L.P.; BP SCI, LLC; Tailwind Capital Partners III, L.P.
20180180 | G | ECN Capital Corp.; Triad Financial Services, Inc.; ECN Capital Corp.
20180183 | G | Insight Venture Partners X, L.P.; Revere Superior Holding, Inc.; Insight Venture Partners X, L.P.
20180190 | G | Vitol Holding II S.A.; Noble Group Limited; Vitol Holding II S.A.
20180191 | G | CTEC 1 S.a.r.L; Faenza Holding S.a.r.L; CTEC 1 S.a.r.L.
20180198 | G | CPTC Acquisition, LLC; California Proton Treatment Center, LLC; CPTC Acquisition, LLC.
11/15/2017
20180144 | G | Delphi Automotive PLC; nuTonomy, Inc.; Delphi Automotive PLC.
20180175 | G | Holcombe T. Green, Jr.; Fusion Telecommunications International, Inc.; Holcombe T. Green, Jr.
20180189 | G | Intercontinental Exchange, Inc.; Vincent Viola; Intercontinental Exchange, Inc.
20180195 | G | Kerry Group plc; Tyson 2009 Family Trust; Kerry Group plc.
11/17/2017
20180132 | G | Hearthside Group Holdings, LLC; Standard Candy Holdings, Inc.; Hearthside Group Holdings, LLC.
20180186 | G | Robert E. Rich Jr.; James Nicholas DeSisto; Robert E. Rich Jr.
20180194 | G | Joel Freedman; Tenet Healthcare Corporation; Joel Freedman.
20180196 | G | EQT Infrastructure II Limited Partnership; Seacastle, Inc.; EQT Infrastructure II Limited Partnership.
20180199 | G | Henkel AG & Co. KGaA; Shiseido Company, Limited; Henkel AG & Co. KGaA.
20180203 | G | Masco Corporation; William Rowley; Masco Corporation.
20180206 | G | Kodiak Building Products Inc.; Wolverine Investors, LLC; Kodiak Building Products Inc.
20180207 | G | Vista Equity Partners Fund VI, L.P.; Vista Foundation Fund II, L.P.; Vista Equity Partners Fund VI, L.P.
20180208 | G | Vista Foundation Fund II, L.P.; Vista Equity Partners Fund VI, L.P.; Vista Foundation Fund II, L.P.
20180209 | G | Vista Equity Partners Fund VI, L.P.; Austin McChord; Vista Equity Partners Fund VI, L.P.
20180210 | G | Rhone Partners V L.P.; Hudson's Bay Company; Rhone Partners V L.P.
20180213 | G | Proofpoint, Inc.; Cloudmark, Inc.; Proofpoint, Inc.
20180216 | G | Riverstone Global Energy and Power Fund V, L.P.; Gilmore E. Caswell III; Riverstone Global Energy and Power Fund V, L.P.
20180217 | G | Riverstone Global Energy and Power Fund V, L.P.; Wes L. Caswell; Riverstone Global Energy and Power Fund V, L.P.
20180218 | G | South Dakota Wheat Growers Association; North Central Farmers Elevator; South Dakota Wheat Growers Association.
20180228 | G | BNP Paribas S.A.; Janus Henderson Group plc; BNP Paribas S.A.
20180237 | G | TPG Partners VII, L.P.; Exactech, Inc.; TPG Partners VII, L.P.
11/20/2017
20180122 | G | Industrial Alliance Insurance and Financial Services, Inc.; James B. Smith; Industrial Alliance Insurance and Financial Services, Inc.
20180222 | G | Electronic Arts Inc.; Vince Zampella; Electronic Arts Inc.
11/21/2017
20180167 | G | GSO Diamond Portfolio Fund LP; NewStar Financial, Inc.; GSO Diamond Portfolio Fund LP.
20180168 | G | BCP CC Holdings L.P.; NewStar Financial, Inc.; BCP CC Holdings L.P.
20180176 | G | Astronics Corporation; Gloria J.B. and Paul C. Burke; Astronics Corporation.
20180188 | G | Hormel Foods Corporation; Arbor Investments III, L.P.; Hormel Foods Corporation.
20180225 | G | Tabbassum Mumtaz; Yum! Brands, Inc.; Tabbassum Mumtaz.
20180230 | G | Vestar Capital Partners VI, L.P.; Wind Point Partners, VII-A, L.P.; Vestar Capital Partners VI, L.P.
20180232 | G | Elliott International Limited; Gigamon Inc.; Elliott International Limited.
20180239 | G | Andrew W. Houston; Dropbox, Inc.; Andrew W. Houston.
11/22/2017
20171045 | G | Schlumberger N.V. (Schlumberger Limited); A to-be-formed Delaware limited liability company; Schlumberger N.V. (Schlumberger Limited).
20180125 | G | Aramark; Marriott International, Inc.; Aramark.
20180130 | G | Graphic Packaging Holding Company; Gazelle Newco, LLC; Graphic Packaging Holding Company.
20180219 | G | Sudzucker AG; Centerview Capital, L.P.; Sudzucker AG.
20180236 | G | Strayer Education, Inc.; Capella Education Company; Strayer Education, Inc.
20180240 | G | Arash Ferdowsi; Dropbox, Inc.; Arash Ferdowsi.
20180245 | G | Terry Taylor; Roger S. Penske; Terry Taylor.
20180252 | G | TransMontaigne Partners L.P.; Plains All American Pipeline, L.P.; TransMontaigne Partners L.P.
20180255 | G | AE Industrial Partners Fund I, L.P.; EnCore Composites Holdings, Inc.; AE Industrial Partners Fund I, L.P.
11/27/2017
20180233 | G | Potlatch Corporation; Deltic Timber Corporation; Potlatch Corporation.
11/28/2017
20180182 | G | The Hearst Family Trust; Maria Rodale; The Hearst Family Trust.
20180211 | G | Saputo Inc.; Arnaud Solandt; Saputo Inc.
20180220 | G | Cargill, Incorporated; CW Brand Holdings, Inc.; Cargill, Incorporated.
20180246 | G | TPG Asia VI, L.P.; Dong Hwan Koh; TPG Asia VI, L.P.
20180247 | G | Andina Acquisition Corp. II; Wayzata Opportunities Fund II, L.P.; Andina Acquisition Corp. II.
20180253 | G | Gregory B. Maffei; Liberty Interactive Corporation; Gregory B. Maffei.
20180258 | G | Innergex Renewable Energy Inc.; Alterra Power Corp.; Innergex Renewable Energy Inc.
20180279 | G | Proto Labs, Inc.; James L. Jacobs, II; Proto Labs, Inc.
20180284 | G | Thoma Bravo Fund XII, L.P.; Jim Bottin Enterprises, Inc.; Thoma Bravo Fund XII, L.P.
20180285 | G | William G. Davis; David Hudson; William G. Davis.
11/29/2017
20180242 | G | H.I.G. Capital Partners V, L.P.; Velocity Solutions, LLC; H.I.G. Capital Partners V, L.P.
20180256 | G | LM Tortoise Holdings LLC; Martin C. Bicknell; LM Tortoise Holdings LLC.
20180262 | G | Karman Topco L.P.; Bain Capital Asia Fund III, L.P.; Karman Topco L.P.
20180271 | G | Owens & Minor, Inc.; Halyard Health, Inc.; Owens & Minor, Inc.
20180286 | G | Unilever N.V.; Starbucks Corporation; Unilever N.V.
20180295 | G | GEPIF II Bravo AIV, L.P.; SemGroup Corporation; GEPIF II Bravo AIV, L.P.
20180296 | G | GEPIF II Bravo AIV, L.P.; NGL Energy Partners LP; GEPIF II Bravo AIV, L.P.
20180298 | G | Energy Capital Partners III-C Offshore Feeder, LP; Sunnova Energy Corporation; Energy Capital Partners III-C Offshore Feeder, LP.
11/30/2017
20180250 | G | Naspers Limited; Remitly, Inc.; Naspers Limited.
20180259 | G | Anthem, Inc.; Kiran C. Patel; Anthem, Inc.
20180277 | G | Eurazeo SE.; Planet Payment, Inc.; Eurazeo SE.
20180278 | G | Madison Dearborn Capital Partners VII-A, L.P.; AmTrust Financial Services, Inc.; Madison Dearborn Capital Partners VII-A, L.P.

For Further Information Contact: Theresa Kingsberry, Program Support Specialist, Federal Trade Commission Premerger Notification Office, Bureau of Competition, Room CC-5301, Washington, DC 20024, (202) 326-3100.

By direction of the Commission.
Donald S. Clark,
Secretary.

[FR Doc. 2017-26578 Filed 12-8-17; 8:45 am]

BILLING CODE 6750-01-P